DEPARTMENT OF LABOR

Employment and Training Administration

Workforce Investment Act of 1998 (WIA); Notice of Incentive Funding Availability Based on Program Year (PY) 2011 Performance

AGENCY: Employment and Training Administration, Labor.

ACTION: Notice; correction.

SUMMARY: The Employment and Training Administration published a document in the Federal Register of May 24, 2013, notifying eligible state grantees of their Workforce Investment Act incentive grant status and total award amount. The document contained one incorrect state; “Missouri” should be replaced with “Mississippi”.

FOR FURTHER INFORMATION CONTACT: Luke Murren, 202-693-3733.

Corrections

In the Federal Register of May 24, 2013, in FR Doc. 78 FR 31596, on page 31597, in the first column (“State”) of the first table, replace “Missouri” with “Mississippi”.

In the Federal Register of May 24, 2013, in FR Doc. 78 FR 31596, on page 31597, in the first column (“State”) of the Appendix, bold the word “Mississippi” and un-bold the word “Missouri”.

In the Federal Register of May 24, 2013, in FR Doc. 78 FR 31596, on page 31597, in the second column (“WIA (Title IB)”) of the Appendix, replace the “X” beside Missouri to “…………………………..”, and replace the “…………………………..” beside Mississippi to an “X”.

Dated: May 30, 2013.
Jane Oates,
Assistant Secretary.

[FR Doc. 2013-13322 Filed 6-4-13; 8:45 am]

BILLING CODE 4510-FN-P